DEPARTMENT OF COMMERCE

National Oceanic and Atmospheric Administration

50 CFR Part 635

[Docket No. 160527473-6999-02]

RIN 0648-BG09

Atlantic Highly Migratory Species; Individual Bluefin Quota Program; Inseason Transfers; Correction

AGENCY: National Marine Fisheries Service (NMFS), National Oceanic and Atmospheric Administration (NOAA), Commerce.

ACTION: Stay of final rule; correction.

SUMMARY: NMFS published a “Stay of final rule” on January 31, 2017—in accordance with the memorandum of January 20, 2017, from the Assistant to the President and Chief of Staff, entitled “Regulatory Freeze Pending Review,” published in the Federal Register on January 24, 2017 (the Memorandum)—to delay the effective date of the final rule NMFS published on December 29, 2016. This notification corrects the effectiveness date from “March 21, 2017” to “February 10, 2017.” For consistency and clarity, the complete new DATES section has been set out below in its entirety.

DATES: Effective February 7, 2017, the final rule amending 50 CFR part 635, that published on December 29, 2016, at 81 FR 95903, is stayed until February 10, 2017.

FOR FURTHER INFORMATION CONTACT: Thomas Warren or Sarah McLaughlin, 978-281-9260; Carrie Soltanoff, 301-427-8503.

SUPPLEMENTARY INFORMATION:

Background

On December 29, 2016, NMFS published this final rule modifying the Atlantic highly migratory species (HMS) regulations regarding the distribution of inseason Atlantic bluefin tuna quota transfers to the Longline category. This final rule provides NMFS the ability to distribute quota inseason either to all qualified Individual Bluefin Quota (IBQ) share recipients (i.e., share recipients who have associated their permit with a vessel) or only to permitted Atlantic Tunas Longline vessels with recent fishing activity, whether or not they are associated with IBQ shares. This action is necessary to optimize fishing opportunity in the directed pelagic longline fishery for target species such as tuna and swordfish and to improve the functioning of the IBQ Program and its leasing provisions consistent with the objectives of Amendment 7 to the 2006 Consolidated HMS Fishery Management Plan.

On January 20, 2017, the White House issued a memo instructing Federal agencies to temporarily postpone the effective date for 60 days after January 20, 2017, of any regulations or guidance documents that have published in the Federal Register but not yet taken effect, for the purpose of “reviewing questions of fact, law, and policy they raise.” Because its effective date has already passed, we enacted a stay of the rule published on December 29, 2016, at 81 FR 95903 (see DATES above) until March 21, 2017, in a “Stay of final rule” document published on January 31, 2017 (82 FR 8821).

Need for Correction

After the “Stay of final rule” published on January 31, 2017, NMFS is correcting the effective date of “March 21, 2017” to “February 10, 2017” to better align with current fisheries management goals. NMFS publishes this notification to correct the stay of effective date.

Corrections

In the Federal Register of January 31, 2017, in FR Doc. 2017-02043, “March 21, 2017” is corrected to read “February 10, 2017” in the following places:

1. In the DATES section on page 8821 in the first column, which is also set out in its entirety above for clarity and consistency;

2. On page 8821, second column, first paragraph, last sentence; and

3. On page 8821, in amendatory instruction 2.

Authority: 16 U.S.C. 1801 et seq.

Dated: February 2, 2017.
Alan D. Risenhoover,
Acting Deputy Assistant Administrator for Regulatory Programs, National Marine Fisheries Service.

[FR Doc. 2017-02462 Filed 2-6-17; 8:45 am]

BILLING CODE 3510-22-P